ENVIRONMENTAL PROTECTION AGENCY

40 CFR Parts 51, 60, 61, and 63

[EPA-HQ-OAR-2014-0292; FRL-9934-85-OAR]

RIN 2060-AS34

Revisions to Test Methods, Performance Specifications, and Testing Regulations for Air Emission Sources

AGENCY: Environmental Protection Agency (EPA).

ACTION: Announcement of public hearing.

SUMMARY: The Environmental Protection Agency (EPA) is announcing a public hearing for the proposed rule titled, “Revisions to Test Methods, Performance Specifications, and Testing Regulations for Air Emission Sources,” that was published in the Federal Register on September 8, 2015. The hearing will be held in Research Triangle Park, North Carolina. The EPA is proposing technical and editorial corrections and revisions to regulations related to source testing of emissions. The EPA is proposing to make corrections and updates to testing provisions that contain inaccuracies and outdated procedures, and to provide alternatives to existing testing regulations. The revisions will improve the quality of data and provide testers flexibility to use recently-approved alternative procedures. Many of the changes were suggested by testers and other end-users and will not impose new substantive requirements on source owners or operators.

DATES: The public hearing will be held on October 8, 2015, in Research Triangle Park. Please refer to SUPPLEMENTARY INFORMATION for additional information on the public hearing.

ADDRESSES: The hearing will be held at the Environmental Protection Agency, 109 T.W. Alexander Drive, Research Triangle Park, NC 27711.

Written comments on the proposed rule may also be submitted to the EPA electronically by mail, by facsimile, or through hand delivery/courier. Please refer to the proposed rule for the addresses and detailed instructions.

A complete set of documents related to the proposed rule is available for public inspection at the EPA Docket Center located at Docket ID No. EPA-HQ-OAR-2014-0292, EPA/DC, WJC West Building, Room 3334, 1301 Constitution Avenue NW., Washington, DC. The Public Reading Room is open from 8:30 a.m. to 4:30 p.m., Monday through Friday, excluding legal holidays. A reasonable fee may be charged for copying. Documents are also available through the electronic docket system at www.regulations.gov.

The proposal and information about the public hearing, can be found at http://www.epa.gov/ttn/emc/proposed.html.

FOR FURTHER INFORMATION CONTACT: If you would like to speak at the public hearing or have questions concerning the public hearing or proposed rule, please contact Ms. Lula Melton, Office of Air Quality Planning and Standards, Air Quality Assessment Division (E143-02), Environmental Protection Agency, 109 T.W. Alexander Drive, Research Triangle Park, NC 27711; telephone: (919) 541-2910; fax number: (919) 541-0516; email address: melton.lula@epa.gov.

SUPPLEMENTARY INFORMATION: The proposed rule for which the EPA is holding the public hearing was published in the Federal Register on September 8, 2015 (80 FR 54146), and is available at http://www.epa.gov/ttn/emc/proposed.html. The public hearing will provide interested parties the opportunity to present data, views, or arguments concerning the proposed rule. The EPA may ask clarifying questions during the oral presentations but will not respond to the presentations at that time. Written statements and supporting information submitted during the comment period will be considered with the same weight as any oral comments and supporting information presented at the public hearing. Written comments must be postmarked by the last day of the comment period, November 9, 2015, as specified in the proposed rule.

The public hearing will be held in Research Triangle Park, North Carolina, and will begin at 1:00 p.m. (local time) and continue until 4:00 p.m. (local time). The EPA will make every effort to accommodate all speakers that arrive and register before 1:00 p.m. Please note that the hearing is being held at a U.S. government facility, and individuals planning to attend the hearing should be prepared to show valid picture identification to the security staff in order to gain access to the building. The REAL ID Act, passed by Congress in 2005, established new requirements for entering federal facilities. These requirements took effect July 21, 2014. If your driver's license is issued by American Samoa, Louisiana, Minnesota, New Hampshire, or New York, you must present an additional form of identification to enter the federal building in Research Triangle Park, North Carolina where the public hearing will be held. Acceptable alternative forms of identification include federal employee badges, passports, enhanced driver's licenses, military identification cards, birth certificates, social security cards, voter registration cards, and U.S. citizen ID cards. In addition, you will need to obtain a property pass for any personal belongings you bring with you. Upon leaving the building, you will be required to return this property pass to the security desk. No large signs will be allowed in the building, cameras may only be used outside of the building, and demonstrations will not be allowed on federal property for security reasons.

If you would like to present oral testimony at the hearing, please notify Ms. Lula Melton, U.S. EPA, Office of Air Quality Planning and Standards, Mail Code: E143-02, 109 T.W. Alexander Drive, Research Triangle Park, NC 27711; telephone: (919) 541-2910; fax number: (919) 541-0516; email address: melton.lula@epa.gov (preferred method for registering) no later than October 5, 2015. Ms. Melton will arrange a general time slot for you to speak. The EPA will make every effort to follow the schedule as closely as possible on the day of the hearing.

Oral testimony will be limited to 5 minutes for each commenter to address the proposed revisions. The EPA will not provide audiovisual equipment for presentations unless we receive special requests in advance. Commenters should notify Ms. Melton if they will need specific equipment and/or specific translation services for non-English speaking commenters. The EPA encourages commenters to provide written versions of their oral testimonies either electronically on computer disk or CD-ROM, or in paper copy.

The hearing schedule, including lists of speakers, will be posted at http://www.epa.gov/ttn/emc/proposed.html prior to the hearings. Verbatim transcripts of the hearings and written statements will be included in the rulemaking docket.

How can I get copies of this document and other related information?

The EPA has established the official public docket for the proposed rule under Docket ID No. EPA-HQ-OAR-2014-0292. Please refer to the proposed rule (80 FR 54146, September 8, 2015) for detailed information on accessing information related to the proposed rule.

Dated: September 18, 2015.
Michael Koerber,
Acting Director, Office of Air Quality Planning and Standards.

[FR Doc. 2015-24859 Filed 9-29-15; 8:45 am]

BILLING CODE 6560-50-P